SECURITIES AND EXCHANGE COMMISSION

[Release No. IC-24372]

Notice of Applications for Deregistration Under Section 8(f) of the Investment Company Act of 1940

March 31, 2000.

The following is a notice of applications for deregistration under section 8(f) of the Investment Company Act of 1940 for the month of March 2000. A copy of each application may be obtained for a fee at the SEC's Public Reference Branch, 450 Fifth St., N.W., Washington, DC 20549-0102 (tel. 202-942-8090). An order granting each application will be issued unless the SEC orders a hearing. Interested persons may request a hearing on any application by writing to the SEC's Secretary at the address below and serving the relevant applicant with a copy of the request, personally or by mail. Hearing requests should be received by the SEC by 5:30 p.m. on April 25, 2000, and should be accompanied by proof of service on the applicant, in the form of an affidavit or, for lawyers, a certificate of service. Hearing requests should state the nature of the writer's interest, the reason for the request, and the issues contested. Persons who wish to be notified of a hearing may request notification by writing to the Secretary, SEC, 450 Fifth Street, N.W., Washington, DC 20549-0609. For Further Information Contact: Daine L. Titus, at (202) 942-0564, SEC, Division of Investment Management, Office of Investment Company Regulation, 450 Fifth Street, N.W., Washington, DC 20549-0506.

MIMLIC Cash Fund, Inc. [File No. 811-5027]

Summary: Applicant seeks an order declaring that it has ceased to be an investment company. On September 24, 1999, applicant made a liquidating distribution to its shareholders based on net asset value. Expenses of $1,000 incurred in connection with the liquidation were paid by Advantus Capital Management, Inc., the fund's investment adviser.

Filing Dates: The application was filed on September 29, 1999, and amended on March 8, 2000.

Applicant's Address: 400 Robert Street North, St. Paul, Minnesota 55101-2098.

Sage/TSO [File No. 811-7573]

Summary: Applicant seeks an order declaring that it has ceased to be an investment company. On September 30, 1998, applicant made a liquidating distribution to its shareholders based on net asset value. Expenses of $15,000 incurred in connection with the liquidation were paid by SAGE/TSO Investment Management L.P., applicant's investment adviser.

Filing Dates: The application was filed on January 7, 2000, and amended on March 3, 2000.

Applicant's Address: 1462 Waterfront Road, Reston, Virginia 20194.

Anchor Strategic Assets Trust [File No. 811-5963]

Summary: Applicant seeks an order declaring that it has ceased to be an investment company. On September 1, 1999, applicant transferred its assets to Anchor Resource and Commodity Trust based on net asset value. Expenses of $37,000 incurred in connection with the reorganization were paid by the acquiring fund.

Filing Date: The application was filed on March 8, 2000.

Applicant's Address: 579 Pleasant Street, Suite 4, Paxton, Massachusetts 01612.

Income Opportunities Fund 2006, Inc. [File No. 811-9621]

Summary: Applicant seeks an order declaring that it has ceased to be an investment company. Applicant has never made a public offering of its securities and does not propose to make any public offering or engage in business of any kind.

Filing Dates: The application was filed February 22, 2000, and amended on March 10, 2000.

Applicant's Address: c/o Fund Asset Management L.P., P.O. Box 9011, Princeton, New Jersey 08543-9011.

Alterman Investment Fund, Inc. [File No. 811-2998]

Summary: Applicant seeks an order declaring that it has ceased to be an investment company. On December 10, 1999, applicant transferred its assets to Smith Barney Muni Funds Georgia Portfolio, based on net asset value. Total expenses of $80,446 were incurred in connection with the reorganization. Salomon Smith Barney, Inc., paid the first $40,000 of the legal and accounting expenses, and the remaining expenses were paid equally by Salomon Smith Barney, Inc. and applicant. The acquiring fund bore all of the expenses it incurred in connection with the reorganization.

Filing Date: The application was filed on March 7, 2000.

Applicant's Address: 182 Hilderbrand Drive, Suite 102, Atlanta, Georgia 30328.

Life & Annuity Trust [File No. 811-8118]

Summary: Applicant seeks an order declaring that it has ceased to be an investment company. On September 20, 1999, applicant transferred all of its assets to Wells Fargo Variable Trust, based on net asset value. Expenses of $144,638 incurred in connection with the reorganization were paid by Wells Fargo Bank, N.A., investment adviser to the acquiring fund.

Filing Date: The application was filed on March 2, 2000.

Applicant's Address: 111 Center Street, Little Rock, Arkansas 72201.

Stagecoach Funds, Inc. [File No. 811-6419]; Stagecoach Trust [File No. 811-7780]

Summary: Each applicant seeks an order declaring that it has ceased to be an investment company. On November 8, 1999, each applicant transferred all of its assets to Wells Fargo Funds Trust, based on net asset value. Expenses of $1,933,236 and $361,710, respectively, incurred in connection with the reorganizations were paid by Wells Fargo Bank, N.A., investment adviser to the acquiring fund.

Filing Date: The applications were filed on March 2, 2000.

Applicant's Address: 111 Center Street, Little Rock, Arkansas 72201.

Golf Associated Fund [File No. 811-8819]

Summary: Applicant seeks an order declaring that it has ceased to be an investment company. On December 29, 1999, applicant made a liquidating distribution to its shareholders based on net asset value. Expenses of approximately $700 incurred in connection with the liquidation were paid by applicant.

Filing Date: The application was filed on March 2, 2000.

Applicant's Address: 2801 Ocean Drive, Suite 204, Vero Beach, Florida 32963.

Evergreen Quality Bond Fund (Formerly Keystone Quality Bond Fund (B-1)) [File No. 811-92]

Summary: Applicant seeks an order declaring that it has ceased to be an investment company. On January 24, 1998, applicant transferred its assets to Evergreen Diversified Bond Fund, a newly-created series of Evergreen Fixed Income Trust, based on net asset value. All expenses incurred in connection with the reorganization were paid by First Union National Bank, the parent of applicant's investment adviser.

Filing Date: The application was filed on February 18, 2000.

Applicant's Address: 200 Berkeley Street, Boston, Massachusetts 02116.

Nations Fund Portfolios, Inc. [File No. 811-8982]

Summary: Applicant seeks an order declaring that it has ceased to be an investment company. On August 20, 1999, applicant transferred its assets to Nations Reserves, based on net asset value. Expenses of $15,400 incurred in connection with the reorganization were paid by NationsBanc Advisors, Inc. or its affiliates.

Filing Date: The application was filed on February 22, 2000.

Applicant's Address: 111 Center Street, Suite 300, Little Rock, Arkansas 72201.

Master Investment Trust [File No. 811-6415]

Summary: Applicant seeks an order declaring that it has ceased to be an investment company. On December 12, 1997, applicant made a liquidating distribution to its shareholders based on net asset value. Expenses of $26,392 incurred in connection with the liquidation were paid by Wells Fargo Bank, N.A., applicant's administrator.

Filing Dates: The application was filed on September 30, 1999, and amended on March 1, 2000, and March 10, 2000.

Applicant's Address: 111 Center Street, Little rock, Arkansas 72201.

The Hudson River Trust [File No. 811-4185]

Summary: Applicant seeks an order declaring that it has ceased to be an investment company. On October 18, 1999, applicant made a final liquidating distribution to its shareholders based on net asset value. Expenses of $8,000 incurred in connection with the liquidation were paid by the Equitable, the indirect parent of applicant's investment adviser.

Filing Dates: The application was filed on December 30, 1999, and amended on January 21, 2000, and February 25, 2000.

Applicant's Address: 1345 Avenue of the Americas, New York, New York 10105.

Overland Express Funds, Inc. [File No. 811-8275]

Summary: Applicant seeks an order declaring that it has ceased to be an investment company. On December 12, 1997, applicant transferred its assets to Stagecoach Funds, Inc. (the “Acquiring Fund”) in exchange for shares of the corresponding series of the Acquiring Fund based on the relative net asset value per share. Expenses of $426,690 incurred in connection with the reorganization were paid by Wells Fargo Bank, N.A., the administrator of the Acquiring Fund.

Filing Dates: The application was filed on September 30, 1999, and amended on February 25, 2000.

Applicant's Address: 111 Center Street, Little Rock, Arkansas 72201.

Investa Management Co. [File No. 811-8198]

Summary: Applicant seeks an order declaring that it has ceased to be an investment company. Applicant has not made a public offering of its securities and does not propose to make any public offering or engage in business of any kind.

Filing Date: The application was filed on March 17, 2000.

Applicant's Address: c/o Investa Management Co., Inc., 551 Fifth Avenue, New York, New York 10176.

Variable Account D of Monarch Life Insurance Company [File No. 811-5226]

Summary: Applicant seeks an order declaring that it has ceased to be an investment company. Applicant has not made any public offering of its securities, is not now engaged, or intending to engage, in any business activities other than those necessary for winding up its affairs.

Filing Dates: The application was filed on December 23, 1999, and amended on February 24, 2000.

Applicant's Address: One Monarch Place, Springfield, Massachusetts 01133.

Variable Account H of Monarch Life Insurance Company [File No. 811-5637]

Summary: Applicant seeks an order declaring that it has ceased to be an investment company. Applicant has not made any public offering of its securities, is not now engaged, or intending to engage, in any business activities other than those necessary for winding up its affairs.

Filing Dates: The application was filed on December 23, 1999, and amended on February 24, 2000.

Applicant's Address: One Monarch Place, Springfield, Massachusetts 01133.

Variable Account G of Monarch Life Insurance Company [File No. 811-5403]

Summary: Applicant seeks an order declaring that it has ceased to be an investment company. Applicant has not made any public offering of its securities, is not now engaged, or intending to engage, in any business activities other than those necessary for winding up its affairs.

Filing Dates: The application was filed on December 23, 1999, and amended on February 24, 2000.

Applicant's Address: One Monarch Place, Springfield, Massachusetts 01133.

For the Commission, by the Division of Investment Management, pursuant to delegated authority.
Margaret H. McFarland,
Deputy Secretary.

[FR Doc. 00-8485 Filed 4-6-00; 8:45 am]

BILLING CODE 8010-01-M